DEPARTMENT OF THE INTERIOR

Bureau of Land Management

[WY-010-02-1430-EU; WYW-152430]

Notice of Realty Action: Direct Sale of Public Lands, Hot Springs County, Worland Field Office, WY

AGENCY: Bureau of Land Management, Interior.

ACTION: Notice of realty action.

SUMMARY: The following public lands in Hot Springs County, Wyoming have been examined and found suitable for direct sale under Section 203 of the Federal Land Policy and Management Act of 1976 (90 Stat. 2750, 43 U.S.C. 1713), at not less than the appraised fair market value. This land will not be offered for sale until at least 60 days after the date of this notice.

Sixth Principal Meridian

T. 46 N., R. 99 W.

Section 13, S½SW1/4,SE1/4, S½N½SW¼SE¼

Containing approximately 30 acres.

The land described is hereby segregated from appropriation under the public land laws, including the mining laws, pending disposition of this action or 270 days from the date of publication of this notice in the Federal Register, whichever occurs first. This land is being offered by direct sale to Ken Carswell, who is the owner of sawmill facilities located on the site, authorized under a lease. It has been determined that the subject parcel contains valuable oil and gas deposits, but no other minerals of value. Therefore those mineral interests without value may be conveyed simultaneously. Acceptance of the direct sale offer will qualify the purchaser to make application for conveyance of those mineral interests. The patent, when issued, will contain certain reservations to the United States and will be subject to rights-of-way and mineral leases of record. Detailed information concerning this action is available for review at the Worland Field Office, Bureau of Land Management, 101 S. 23rd St. (P.O. Box 119), Worland, Wyoming 82401-0119.

EFFECTIVE DATES: Written or e-mail comments may be submitted through August 9, 2002.

FOR FURTHER INFORMATION CONTACT: Steve Till, Worland Field Office, P.O. Box 119 [101 South 23rd Street], Worland, Wyoming 82401-0119. (307) 347-5100.

SUPPLEMENTARY INFORMATION: For a period of 45 days from the date of publication of this notice in the Federal Register, interested persons may submit comments regarding the proposed conveyance of the lands to the Worland Field Manager, at P.O. Box 119, Worland, Wyoming 82401-0119 or by e-mail to worland_wymail@blm.gov. In the absence of timely objections, this proposal shall become the final determination of the Department of the Interior. Comments, including names and street addresses of respondents will be available for public review at the Worland Field Office during regular business hours (7:45 a.m. to 4:30 p.m.) Monday through Friday, except holidays.

Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

Dated: March 22, 2002.
Darrell Barnesk,
Worland Field Manager.

[FR Doc. 02-16006 Filed 6-24-02; 8:45 am]

BILLING CODE 4310-22-P